DEPARTMENT OF HEALTH AND HUMAN SERVICES

Health Resources and Services Administration

Agency Information Collection Activities: Submission to OMB for Review and Approval; Telehealth Resource Center Performance Measurement Tool, OMB No. 0915-0361—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than August 18, 2025.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Telehealth Resource Center Performance Measurement Tool, OMB No. 0915-0361—Revision.

Abstract: HRSA requests a revision of its approved Telehealth Resource Center (TRC) Performance Measurement Tool and renewal of the previously approved performance measures. TRCs deliver telehealth technical assistance under cooperative agreements awarded by HRSA's Office for the Advancement of Telehealth, as authorized by section 330I(d)(2) of the Public Health Service Act (42 U.S.C. 254c-14(d)(2)). There are two types of HRSA TRC programs:

1. Two National TRC Programs focus on policy and technology.

2. Twelve Regional TRC Programs host activities and provide resources to rural and underserved areas.

HRSA TRCs

• Provide training and support,

• Publicize information and research findings,

• Support collaboration and partnerships,

• Promote effective partnerships, and

• Promote the use of telehealth by providing health care information and education to the public and medical specialists.

TRCs share expertise through individual consults, training, webinars, conference presentations, and the web. HRSA collects information using the TRC Performance Measurement Tool.

HRSA seeks to revise its approved information collection because the electronic system for submitting information to HRSA has changed from the Performance Improvement Management System to Data Collection Platform as a Service (DCP). Although the electronic system has changed, the information collected using the TRC Performance Measurement Tool has not changed and HRSA's burden estimate remains the same.

A 60-day notice published in the Federal Register on May 15, 2025, vol. 90, No. 93; pp. 20677-79. There were no public comments.

Need and Proposed Use of the Information: To evaluate existing programs, recipients of the National and Regional TRC cooperative agreements submit data through HRSA's DCP. The data are used to measure the effectiveness of technical assistance. There is one data reporting period each year; during this reporting period, data are reported for the previous 12 months of activity. TRCs have approximately 6 weeks to enter their data into the DCP system during each annual reporting period. The instrument was developed to measure how the National and Regional TRCs meet the following goals:

• Improving access to needed services,

• Reducing rural and underserved population practitioner isolation,

• Improving health system productivity and efficiency, and

• Improving patient outcomes.

The TRCs currently report on existing performance data elements using the TRC Performance Measurement Tool. The performance measures assess how the TRC program meets its goals to:

• Expand the availability of telehealth services in underserved communities;

• Improve the quality, efficiency, and effectiveness of telehealth services;

• Promote knowledge exchange and dissemination about efficient and effective telehealth practices and technology; and

• Establish sustainable technical assistance centers providing quality, unbiased technical assistance for the development and expansion of effective and efficient telehealth services in underserved communities.

Additionally, the TRC Performance Measurement Tool allows HRSA to:

• Determine the value added from the TRC cooperative agreements;

• Justify budget requests;

• Collect uniform, consistent data which enables HRSA to monitor programs;

• Provide guidance to grantees on important indicators to track over time for their own internal program management;

• Measure performance relative to HRSA's mission as well as individual goals and objectives of the program;

• Identify topics of interest for future special studies; and

• Identify changes in health care needs within rural and underserved communities, allowing programs to shift focus to meet those needs.

Likely Respondents: Likely respondents are telehealth associations, telehealth providers, rural and underserved health providers, clinicians that deliver services via telehealth, technical assistance providers, and research organizations and academic medical centers that receive National or Regional TRC cooperative agreements.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours *
TRC Performance Measurement Tool | 14 | 42 | 588 | 0.07 | 41
Total | 14 | 42 | 588 | 0.07 | 41
* Total Burden Hours are rounded up to the nearest whole number.

Maria G. Button,
Director, Executive Secretariat.

[FR Doc. 2025-13553 Filed 7-17-25; 8:45 am]

BILLING CODE 4165-15-P